DEPARTMENT OF COMMERCE

International Trade Administration

Antidumping or Countervailing Duty Order, Finding, or Suspended Investigation; Advance Notification of Sunset Reviews

AGENCY: Import Administration, International Trade Administration, Department of Commerce.

ACTION: Notice of Upcoming Sunset Reviews

Background

Every five years, pursuant to section 751(c) of the Tariff Act of 1930, as amended, the Department of Commerce (“the Department”) and the International Trade Commission automatically initiate and conduct a review to determine whether revocation of a countervailing or antidumping duty order or termination of an investigation suspended under section 704 or 734 would be likely to lead to continuation or recurrence of dumping or a countervailable subsidy (as the case may be) and of material injury.

FOR FURTHER INFORMATION CONTACT: Zev Primor, Office 4, AD/CVD Operations, Import Administration, International Trade Administration, U.S. Department of Commerce at (202) 482-4114.

SUPPLEMENTARY INFORMATION:

Upcoming Sunset Reviews for July 2005

The following sunset reviews are scheduled for initiation in July 2005 and will appear in that month's Notice of Initiation of Five-year Sunset Reviews.

Antidumping Duty Proceedings

Axes & Adzes from the People's Republic of China (A-570-803)

Bars & Wedges from the People's Republic of China (A-570-803)

Hammers & Sledges from the People's Republic of China (A-570-803)

Picks & Mattocks from the People's Republic of China (A-570-803)

Cased Pencils from the People's Republic of China (A-570-827)

Certain Circular Welded Carbon Steel Pipes and Tubes from Taiwan (A-583-008)

Circular Welded Non-Alloy Steel Pipe from Brazil (A-351-809)

Circular Welded Non-Alloy Steel Pipe from Mexico (A-201-805)

Circular Welded Non-Alloy Steel Pipe from South Korea (A-580-809)

Circular Welded Non-Alloy Steel Pipe from Taiwan (A-583-814)

Light-Walled Rectangular Welded Carbon Steel Pipe and Tube from Argentina (A-357-802)

Light-Walled Rectangular Welded Carbon Steel Pipe and Tube from Taiwan (A-583-803)

Paper Clips from the People's Republic of China (A-570-826)

Stainless Steel Flanges from India (A-533-809)

Stainless Steel Flanges from Taiwan (A-583-821)

Stainless Steel Wire Rod from Brazil (A-351-819)

Stainless Steel Wire Rod from France (A-427-811)

Stainless Steel Wire Rod from India (A-533-808)

Tin Mill Products from Japan (A-588-854)

Welded Carbon Steel Pipes & Tubes from India (A-533-502)

Welded Carbon Steel Pipe & Tube from Thailand (A-549-502)

Welded Carbon Steel Pipe & Tube from Turkey (A-489-501)

Countervailing Duty Proceedings

Alloy Magnesium from Canada (C-122-815)

Pure Magnesium from Canada (C-122-815)

Welded Carbon Steel Pipe and Tube from Turkey (C-489-502)

Suspended Investigations

Uranium from Russia (A-821-802)

The Department's procedures for the conduct of sunset reviews are set forth in 19 CFR 351.218. Guidance on methodological or analytical issues relevant to the Department's conduct of sunset reviews is set forth in the Department's Policy Bulletin 98.3, “Policies Regarding the Conduct of Five-year (“Sunset”) Reviews of Antidumping and Countervailing Duty Orders;” Policy Bulletin, 63 FR 18871 (April 16, 1998) (“Sunset Policy Bulletin”). The Notice of Initiation of Five-year (“Sunset”) Reviews provides further information regarding what is required of all parties to participate in sunset reviews.

Please note that if the Department receives a Notice of Intent to Participate from a member of the domestic industry within 15 days of the date of initiation, the review will continue. Thereafter, any interested party wishing to participate in the sunset review must provide substantive comments in response to the notice of initiation no later than 30 days after the date of initiation.

This notice is not required by statute but is published as a service to the international trading community.

Dated: May 25, 2005.
Holly A. Kuga,
Senior Office Director AD/CVD Operations, Office 4 for Import Administration.

[FR Doc. E5-2772 Filed 5-31-05; 8:45 am]

BILLING CODE 3510-DS-S